NATIONAL SCIENCE FOUNDATION

Special Emphasis Panel in Design, Manufacture, and Industrial Innovation; Notice of Meeting

In accordance with the Federal Advisory Committee Act (Pub. L. 92-463, as amended), the National Science Foundation announces the following meeting.

Name: Special Emphasis Panel in Design, Manufacture, and Industrial Innovation (1194).

Date/Time: February 22 and 23, 2000, 8:00am-5:30pm (date change from 1/20-21).

Place: Rooms 365 and 370, National Science Foundation, 4201 Wilson Boulevard, Arlington, VA 22230.

Type of Meeting: Closed.

Contact Person: Dr. Lawrence Seiford, Program Director, Operations Research and Production Systems Program, (703) 306-1330, National Science Foundation, 4201 Wilson Boulevard, Arlington, VA 22230.

Purpose of Meeting: To provide and recommendations concerning proposals Submitted to NSF for financial support.

Agenda: To review and evaluate Unsolicited proposals as part ot the selection process for awards.

Reason for Closing: The proposals being reviewed include information of proprietary or confidential nature, including technical information, financial data such as salaries, and personal information concerning individuals associated with the proposals. These matters that are exempt under 5 U.S.C. 522b(c), (4) and (6) of the Government in the Sunshine Act.

Dated: January 24, 2000.
Karen J. York,
Committee Management Officer.

[FR Doc. 00-1991 Filed 1-28-00; 8:45 am]

BILLING CODE 7555-01-M